DEPARTMENT OF TRANSPORTATION

Federal Aviation Administration

Notice of Availability of the Federal Aviation Administration Adoption and Record of Decision of Department of Navy's Final Environmental Impact Statement and Final Supplemental Environmental Impact Statement for Land Acquisition and Airspace Establishment To Support Large-Scale Marine Air Ground: Task Force Live Fire and Maneuver Training, Twentynine Palms

AGENCY: Federal Aviation Administration, DOT.

ACTION: Notice of record of decision.

SUMMARY: The Federal Aviation Administration (FAA) announces its decision to adopt the Department of the Navy's (DoN) Environmental Impact Statement (EIS) and Supplemental Environmental Impact Statement (SEIS) for Land Acquisition and Airspace Establishment to Support Large-Scale Marine Air Ground Task Force Live-Fire and Maneuver Training at Marine Corps Air Ground Combat Center, Twentynine Palms, California. In accordance with Section 102 of the National Environmental Policy Act of 1969 (“NEPA”), the Council on Environmental Quality's (“CEQ”) regulations implementing NEPA (40 CFR parts 1500-1508), and other applicable authorities, including the Federal Aviation Administration (FAA) Order 1050.1F, Environmental Impacts: Policies and Procedures, paragraph 8-2, and FAA Order JO 7400.2K, “Procedures for Handling Airspace Matters,” paragraph 32-2-3, the FAA has conducted an independent review and evaluation of the DoN's EIS and SEIS for Land Acquisition and Airspace Establishment to Support Large-Scale Marine Air Ground Task Force Live-Fire and Maneuver Training at Marine Corps Air Ground Combat Center, Twentynine Palms, California dated July 2012 and January 2017 respectively. As a cooperating agency with responsibility for approving special use airspace under 49 U.S.C. 40103(b)(3)(A), the FAA provided subject matter expertise to the DoN during the environmental review process. Based on its independent review and evaluation, the FAA has determined the EIS and SEIS, including all supporting documentation, as incorporated by reference, adequately assesses and discloses the environmental impacts for the temporary special use air space, and that adoption of the 2012 and 2017 EISs by the FAA is authorized under 40 CFR 1506.3, Adoption. Accordingly, the FAA adopts the 2012 and 2017 EISs, and takes full responsibility for the scope and content that addresses the proposed temporary changes to Special Use Airspace in the vicinity of the Marine Corps Air Ground Combat Center, Twentynine Palms.

FOR FURTHER INFORMATION CONTACT: Paula Miller, Airspace Policy and Regulations Group, Office of Airspace Services, Federal Aviation Administration, 800 Independence Avenue SW., Washington, DC 20591; telephone: (202) 267-7378.

SUPPLEMENTARY INFORMATION:

Background

In July 2012, in accordance with the National Environmental Policy Act and its implementing regulations, the DoN released a Final EIS. The Final EIS presented the potential environmental consequences of the DoN's proposal to establish Special Use Airspace to support Navy training activities that involve the use of advanced weapons systems. The U.S. Marine Corps is the proponent for the temporary SUA in the vicinity of Twentynine Palms, California, and the DoN is the lead agency for the preparation of the EIS and SEIS. The DoN issued their RODs on 2013 and 2017. As a result of public, agency, and tribal comments, and the FAA aeronautical review process; the DoN, FAA, other Federal and State agencies, and tribal governments have consulted to mitigate concerns while continuing to meet national defense training requirements. The FAA is a cooperating agency responsible for approving Special Use Airspace as defined in 40 CFR 1508.5.

Implementation

The FAA is establishing the following temporary special use airspace: Restricted area R-2509 E/W/N, Johnson Valley MOA/ATCAA, Sundance High MOA/ATCAA, Sundance West MOA/ATCAA, Bristol Low MOA, Bristol ATCAA, CAX Low/High MOA/ATCAA, and Turtle MOA/ATCAA. The Notice of Proposed Rulemaking for temporary R-2509 was published in the Federal Register (82 FR 11414) on February 23, 2017. The MOAs were circularized to the public on February 27, 2017, with Docket No 16-AWP-24NR. The legal descriptions for the MRIC Airspace established, as noted in this notice, will be published in the Federal Register as a Final Rule and in the National Flight Data Digest (NFDD) with a June 22, 2017, effective date. A copy of the FAAROD is available on the FAA Web site.

Right of Appeal

The Adoption and ROD for the establishment of temporary special use airspace in the vicinity of the Combat Center at Twentynine Palms, California constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the order is issued in accordance with the provisions of 49 U.S.C. 46110.

Dated: June 21, 2017.
Sam Shrimpton,
Acting Manager, Operations Support Group, Western Service Center.

[FR Doc. 2017-13561 Filed 6-27-17; 8:45 am]

BILLING CODE 4910-13-P